DEPARTMENT OF ENERGY

Federal Energy Regulatory Commission

[Project No. 13570-002]

Warm Springs Irrigation District; Notice of Technical Meeting

a. Project Name and Number: Warm Springs Dam Hydroelectric Project No. 13570

b. Date and Time of Meeting: October 1, 2013; 11:00 a.m. Pacific Time (2:00 p.m. Eastern Time).

c. Place: Telephone conference call.

d. FERC Contact: Kelly Wolcott, kelly.wolcott@ferc.gov or (202) 502-6480.

e. Purpose of Meeting: Discuss the special status species plant survey for Stanleya confertiflora requested by the U.S. Bureau of Land Management on June 7, 2013; the coordination of the National Environmental Policy Act (NEPA) analysis; and the overall processing schedule for the project.

f. Proposed Agenda:

1. Introduction.

2. Meeting objectives.

3. Plant survey discussion.

4. NEPA coordination.

5. Schedule of Project.

g. A summary of the meeting will be prepared for the project's record.

h. All local, state, and federal agencies, Indian tribes, and other interested parties are invited to participate by phone. Please contact Kelly Wolcott at kelly.wolcott@ferc.gov or (202) 502-6480 by close of business Thursday, September 26, 2013, to RSVP and to receive specific instructions on how to participate.

Dated: September 17, 2013.
Kimberly D. Bose,
Secretary.

[FR Doc. 2013-23130 Filed 9-23-13; 8:45 am]

BILLING CODE 6717-01-P